DEPARTMENT OF DEFENSE

Department of the Navy

[Docket ID: USN-2019-HQ-0020]

Proposed Collection; Comment Request

AGENCY: The Office of the Under Secretary of the Navy, DoD.

ACTION: Information collection notice.

SUMMARY: In compliance with the Paperwork Reduction Act of 1995, the Marine Corps announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 25, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Teresa Peck, Branch Head, Store Operations Services and Vending, Business and Support Services Division (MR), Headquarters, U.S. Marine Corps, 3044 Catlin Ave, Quantico, VA 22134-5009, or call 703-432-1973.

SUPPLEMENTARY INFORMATION:

Title; Associated Form; and OMB Number: NAF Retail Point of Sale System (RPOS), OMB Control Number 0703-XXXX.

Needs and Uses: This information system will provide a means to manage and administer a robust Marine Corps Community Services (MCCS) retail point of sales system to control sales and capture and process customer orders and transactions for the Marine Corps Exchanges, package stores, Marine Marts, and Uniform Shops. The information collection requirement is necessary to manage and administer special orders, rain checks, send sales, returns and exchanges, check cashing, tender by check, and recruit tenders. All information is collected verbally at the point-of-sale terminal and entered into the NAF RPOS by an MCCS employee.

Affected Public: Individuals or households.

Annual Burden Hours: 12,109.

Number of Respondents: 294,953.

Responses per Respondent: 1 to 2 (dependent on transaction type).

Annual Responses: 366,365.

Average Burden per Response: 1 to 10 minutes (dependent on transaction type).

Frequency: As required.

Respondents are individuals who patronize MCCS retail activities. Without this information collection, MCCS would not be able to provide individualized services upon request such as processing special orders or returning merchandise without a receipt. The intended results are managing and administering retail sales in an effective and efficient manner that streamlines service delivery; improves customer experience; and increases retention rates, utilization, and sales.

Dated: September 20, 2019.
Aaron T. Siegel,
Alternate OSD Federal Register Liaison Officer, Department of Defense.

[FR Doc. 2019-20800 Filed 9-24-19; 8:45 am]

BILLING CODE 5001-06-P